DEPARTMENT OF TRANSPORTATION

Federal Aviation Administration

14 CFR Part 39

[Docket No. FAA-2020-0746; Project Identifier 2019-CE-012-AD; Amendment 39-21301; AD 2020-22-05]

RIN 2120-AA64

Airworthiness Directives; Pilatus Aircraft Ltd. Airplanes

AGENCY: Federal Aviation Administration (FAA), DOT.

ACTION: Final rule.

SUMMARY: The FAA is adopting a new airworthiness directive (AD) for Pilatus Aircraft Ltd. Model PC-12/47E airplanes. This AD was results from mandatory continuing airworthiness information (MCAI) originated by an aviation authority of another country to identify and correct an unsafe condition on an aviation product. The MCAI describes the unsafe condition as seizing of a main landing gear (MLG) spring pack assembly. This AD requires replacement of affected parts and prohibits (re)installation of affected parts. The FAA is issuing this AD to address the unsafe condition on these products.

DATES: This AD is effective December 7, 2020.

The Director of the Federal Register approved the incorporation by reference of a certain publication listed in this AD as of December 7, 2020.

ADDRESSES: For service information identified in this final rule, contact Pilatus Aircraft Ltd., Customer Technical Support (MCC), P.O. Box 992, CH-6371 Stans, Switzerland; telephone: +41 (0)41 619 67 74; fax: +41 (0)41 619 67 73; email: Techsupport@pilatus-aircraft.com; internet: https://www.pilatus-aircraft.com/en. You may view this service information at the FAA, Airworthiness Products Section, Operational Safety Branch, 901 Locust, Kansas City, Missouri 64106. For information on the availability of this material at the FAA, call (816) 329-4148. It is also available on the internet at https://www.regulations.gov by searching for and locating Docket No. FAA-2020-0746.

Examining the AD Docket

You may examine the AD docket on the internet at https://www.regulations.gov by searching for and locating Docket No. FAA-2020-0746; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Doug Rudolph, Aerospace Engineer, FAA, General Aviation & Rotorcraft Section, International Validation Branch, 901 Locust, Room 301, Kansas City, Missouri 64106; telephone: (816) 329-4059; fax: (816) 329-4090; email: doug.rudolph@faa.gov.

SUPPLEMENTARY INFORMATION:

Discussion

The FAA issued a notice of proposed rulemaking (NPRM) to amend 14 CFR part 39 by adding an AD that would apply to certain serial-numbered Pilatus Aircraft Ltd. Model PC-12/47E airplanes with an MLG spring pack assembly part number (P/N) 532.34.12.101 installed. The NPRM published in the Federal Register on August 6, 2020 (85 FR 47712). The NPRM proposed to require removing MLG spring pack assembly P/N 532.34.12.101 from service and replacing it with MLG spring pack assembly P/N 532.34.12.120 and was based on MCAI originated by the European Union Aviation Safety Agency (EASA), which is the Technical Agent for the Member States of the European Community. EASA issued AD No. 2019-0032, dated February 15, 2019 (referred to after this as “the MCAI”), to correct the unsafe condition on these products. The MCAI states:

An occurrence was reported of an unlocked main landing gear (MLG) during landing of a PC-12/47E, equipped with electro-mechanical landing gear. Subsequent investigation identified that the aeroplane was equipped with an affected part [spring pack assemblies having P/N 532.34.12.101], which had completely seized. Serviceable parts [spring pack assemblies having P/N 532.34.12.120] have a special surface treatment on the inner and outer tube, which would have prevented the seizure.

This condition, if not corrected, could lead to failure of an MLG spring pack assembly, possibly resulting in inability to safely extend the MLG and consequent loss of control of the aeroplane after landing.

To address this potential unsafe condition, Pilatus issued the [service bulletin] SB to provide inspection and modification instructions.

For the reason described above, this [EASA] AD requires replacement of affected parts with serviceable parts, and prohibits (re)installation of affected parts.

Forty-two airplanes were built that may have this version of the spring pack assembly installed. An improved spring pack assembly with a hard chrome plated inner tube was introduced in 2014. You may examine the MCAI on the internet at https://www.regulations.gov by searching for and locating Docket No. FAA-2020-0746.

Comments

The FAA gave the public the opportunity to participate in developing this final rule. The FAA received no comments on the NPRM or on the determination of the cost to the public.

Conclusion

The FAA reviewed the relevant data and determined that air safety and the public interest require adopting this final rule as proposed.

Related Service Information Under 1 CFR Part 51

The FAA reviewed Pilatus Aircraft Ltd. PC-12 Service Bulletin No. 32-027, dated January 7, 2019. The service information contains procedures for inspecting the MLG spring pack assembly to determine the part number, removing and discarding any affected spring pack assemblies, and installing the improved design spring pack assemblies. This service information is reasonably available because the interested parties have access to it through their normal course of business or by the means identified in the ADDRESSES section.

Costs of Compliance

The FAA estimates that this AD will affect 29 products of U.S. registry. The FAA also estimates that it would take about 3 work-hours per product to comply with the replacement requirements of this AD. The average labor rate is $85 per work-hour. Required parts would cost about $5,000 per product.

Based on these figures, the FAA estimates the cost of this AD on U.S. operators to be $152,395, or $5,255 per product.

According to the manufacturer, some of the costs of this AD may be covered under warranty, thereby reducing the cost impact on affected individuals. The FAA does not control warranty coverage for affected individuals. As a result, the FAA has included all costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-22-05 Pilatus Aircraft Ltd.: Amendment 39-21301; Docket No. FAA-2020-0746; Project Identifier 2019-CE-012-AD.

(a) Effective Date

This airworthiness directive (AD) is effective December 7, 2020.

(b) Affected ADs

None.

(c) Applicability

This AD applies to Pilatus Aircraft Ltd. Model PC-12/47E airplanes, serial numbers 1300 and 1451 through 1944 (except serial number 1720), certificated in any category, with a main landing gear (MLG) spring pack assembly part number (P/N) 532.34.12.101 installed.

(d) Subject

Air Transport Association of America (ATA) Code 32: Landing Gear.

(e) Reason

This AD was prompted by mandatory continuing airworthiness information (MCAI) originated by an aviation authority of another country to identify and correct an unsafe condition on an aviation product. The MCAI describes the unsafe condition as seizing of an MLG spring pack assembly. The FAA is issuing this AD to prevent failure of the MLG spring pack assembly, which could result in the inability to extend the MLG with consequent loss of control of the airplane after landing.

(f) Actions and Compliance

(1) Within 2 months after the effective date of this AD, remove from service MLG spring pack assembly P/N 532.34.12.101 and install MLG spring pack assembly P/N 532.34.12.120 by following the Accomplishment Instructions-Part A-Aircraft, section 3.B., in Pilatus PC-12 Service Bulletin No. 32-027, dated January 7, 2019.

(2) As of the effective date of this AD, do not install an MLG spring pack assembly P/N 532.34.12.101 on any airplane.

(g) Alternative Methods of Compliance (AMOCs)

The Manager, International Validation Branch, FAA, has the authority to approve AMOCs for this AD, if requested using the procedures found in 14 CFR 39.19. Send information to Doug Rudolph, Aerospace Engineer, FAA, General Aviation & Rotorcraft Section, International Validation Branch, 901 Locust, Room 301, Kansas City, Missouri 64106; telephone: (816) 329-4059; fax: (816) 329-4090; email: doug.rudolph@faa.gov. Before using any approved AMOC, notify your appropriate principal inspector (PI), or lacking a PI, your local Flight Standards District Office.

(h) Related Information

Refer to European Union Aviation Safety (EASA) Agency AD No. 2019-0032, dated February 15, 2019, for more information. You may examine the EASA AD in the AD docket on the internet at https://www.regulations.gov by searching for and locating Docket No. FAA-2020-0746.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pilatus PC-12 Service Bulletin No. 32-027, dated January 7, 2019.

(ii) [Reserved]

(3) For Pilatus Aircraft Ltd. service information identified in this AD, contact Pilatus Aircraft Ltd., Customer Technical Support (MCC), P.O. Box 992, CH-6371 Stans, Switzerland; telephone: +41 (0)41 619 67 74; fax: +41 (0)41 619 67 73; email: Techsupport@pilatus-aircraft.com; internet: https://www.pilatus-aircraft.com/en.

(4) You may view this service information at the FAA, Airworthiness Products Section, Operational Safety Branch, 901 Locust, Kansas City, Missouri 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on October 14, 2020.
Lance T. Gant,
Director, Compliance & Airworthiness Division, Aircraft Certification Service.

[FR Doc. 2020-24048 Filed 10-30-20; 8:45 am]

BILLING CODE 4910-13-P